DEPARTMENT OF DEFENSE

Office of the Secretary

Overseas Dependents' School National Advisory Panel on the Education of Dependents with Disabilities

AGENCY: Department of Defense Education Activity (DoDEA), DoD.

ACTION: Notice.

SUMMARY: Pursuant to Public Law 92-463, as amended (5 U.S.C. app. II), the Federal Advisory Committee Act, notice is hereby given that a meeting of the National Advisory Panel (NAP) on the Education of Dependents with Disabilities is scheduled to be held from 8:30 a.m. to 4 p.m. on April 16-18, 2002. The meeting is open to the public and will be held in the Holiday Inn Hotel conference room at 4610 North Fairfax Drive, Arlington, Virginia 22203. The purpose of the meeting is to (1) review the responses to the panel's recommendations from its May 8-10, 2001 meeting; (2) review and comment on data and information provided by DoDEA; and (3) review and comment on reports from subcommittees. Persons desiring to attend the meeting or desiring to make oral presentations or submit written statements for consideration by the panel must contact Ms. Diana Patton at (703) 696-4386 extension 1947.

Dated: January 31, 2002.
L.M. Bynum,
Alternate OSD Federal Register Liaison Officer, Department of Defense.

[FR Doc. 02-2768 Filed 2-5-02; 8:45 am]

BILLING CODE 5001-08-M